DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Evaluation of the Protection and Advocacy for Individuals with Mental Illness (PAIMI) Program—NEW

In recognition that systematic evaluation of this and other government programs are part of good management and accountability, the Substance Abuse and Mental Health Services Administration's Center for Mental Health Services (CMHS) will conduct an independent process evaluation of the PAIMI Program. CMHS will employ information that is routinely collected under existing program requirements and is also expected to collect new, additional data that are also necessary for the conduct of the evaluation. [On January 1, each eligible State protection and advocacy (P&A) system is required to transmit to the Secretary and head of the State Mental Health Agency, in which the system is located, a report describing its activities, accomplishments, and expenditures during the most recently completed fiscal year. None of the data collection activities described above will be redundant with these existing reporting requirements.] The evaluation plan includes gathering information about the PAIMI program from persons with different perspectives. Accordingly, CMHS proposes to proceed with the following new data collection activities:

(1) Survey interviews with the Executive Directors of each of the Protection and Advocacy Grantees, as well as other staff whom they may ask to join them in these interviews to include:

a. Characteristics and shared functions between the P&A Governing Board and the PAIMI Advisory Council.

b. Processes to establish PAIMI goals and priorities.

c. Federal support of the PAIMI program.

d. Federal oversight of the PAIMI program.

e. Organization and staffing of PAIMI responsibilities within the P&A.

f. Procedures for quality management.

g. Background of respondent.

(2) Surveys of and focus groups with persons who receive services from PAIMI programs to include:

a. Access to PAIMI services.

b. Quality of services provided to clients.

c. Satisfaction with services.

d. Background of respondent.

(3) Surveys of the Chairs of the Advisory Councils of each PAIMI Grantee to include:

a. Characteristics and shared functions between the P&A Governing Board and the PAIMI Advisory Council.

b. Processes to establish PAIMI goals and priorities and assessment of those priorities.

c. Organization and staffing of PAIMI responsibilities within the P&A.

d. Quality of services provided to clients.

e. Background of respondent.

(4) Surveys of the Program Directors of State Mental Health Authorities to include:

a. Types of communication between the State Mental Health Authority and the PAIMI program.

b. Processes to establish PAIMI goals and priorities and assessment of those priorities.

c. Relationship between the State Mental Health Authority and the PAIMI program.

d. Role of the PAIMI program in the mental health advocacy community.

e. Background of respondent.

(5) Survey of directors of other organizations who are likely to be familiar with or collaborate in PAIMI activities in each State; including family and consumer groups and other mental health advocacy organizations to include:

a. Types of interaction between the State Mental Health Authority and the PAIMI program.

b. Processes to establish PAIMI goals and priorities and assessment of those priorities.

c. Relationship between the organization and the PAIMI program.

d. Access to and quality of services provided to PAIMI recipients.

e. Role of the PAIMI program in the mental health advocacy community.

f. Background of respondent.

The PAIMI program has never undergone an independent evaluation. The approach being used is to conduct survey interviews with a cross-section of five primary Stakeholder groups connected to the PAIMI program, including Program Directors/staff, Clients/Recipients of services, PAIMI Advisory Council Chairs, Directors of State Mental Health Authorities, and Directors of Other Mental Health Advocacy Organizations in an effort to obtain a representative sample of viewpoints about the PAIMI program. The surveys have been developed to include questions relevant to each of the respective Stakeholder groups named above and range from 22 questions to as many as 88 questions. Depending on the Stakeholder group, respondent surveys are expected to take from thirty minutes up to two hours to complete.

CMHS also intends to conduct an outcome evaluation of the PAIMI program. SAMHSA is soliciting comments on how best to conduct such an evaluation. Comments should address how an evaluation can be best designed to assess the impact of the program, as measured by its GPRA measures, SAMHSA's National Outcome Measures, and other outcome measures. Commenters are advised to refer to the OMB document “What Constitutes Strong Evidence of a Program's Effectiveness?”, available at http://www.whitehouse.gov/omb/part/index.html, for OMB guidance on program evaluations.

The burden estimate for conducting the surveys under the evaluation plan for the PAIMI Program is as follows:

Form name | No. of respondents | Responses per respondent | Total responses | Hours per response (hours) | Total hour burden (hours)
Executive Director Interview | 20 | 1 | 20 | 2 | 40
PAIMI Advisory Chair Survey | 20 | 1 | 20 | 1 | 20
State Mental Health Director Survey | 20 | 1 | 20 | 1 | 20
State Mental Health Legal Counsel | 20 | 1 | 20 | 1 | 20
Other Mental Health Advocacy Org Director Survey | 20 | 1 | 20 | 1 | 20
PAIMI Client Survey | 72 | 1 | 72 | ½ | 36
Total | 172 |  | 172 |  | 156

Written comments and recommendations concerning the proposed information collection should be sent by August 15, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: June 25, 2007.
Elaine Parry,
Acting Director, Office of Program Services.

[FR Doc. E7-13714 Filed 7-13-07; 8:45 am]

BILLING CODE 4162-20-P